DEPARTMENT OF TRANSPORTATION

Federal Aviation Administration

[Docket No: FAA-2005-22842]

Notice of Opportunity To Participate: Criteria and Application Procedures for Participation in the Military Airport Program (MAP)

AGENCY: Federal Aviation Administration (FAA), DOT.

ACTION: Notice of criteria and application procedures.

SUMMARY: This document announces the criteria, application procedures, and schedule to be applied by the Secretary of Transportation in designating or redesignating a maximum of 15 current joint-use or former military airports (at any one time), seeking a designation or redesignation to participate in the MAP for the purposes of capital development funding assistance.

DATES: Applications must be received on or before February 6, 2017.

ADDRESSES: Submit a signed original of Standard Form (SF) 424, “Application for Federal Assistance,” prescribed by the Office of Management and Budget Circular A-102, available at http://www.faa.gov/airports/aip/ along with all supporting and justifying documentation required by this notice. Applicant must specifically request to be considered for designation or redesignation to participate in the Fiscal Year (FY) 2017 MAP. Submission(s) should be sent to the Regional FAA Airports Division or Airports District Office that serves the airport. Applicants may find the proper office on the FAA Web site http://www.faa.gov/airports/news_information/contact_info/regional/ or may contact the office below.

FOR FURTHER INFORMATION CONTACT: Mr. Jonathan DiMartino (Jonathan.DiMartino@faa.gov), Airports Financial Assistance Division (APP-500), Office of Airport Planning and Programming, Federal Aviation Administration (FAA), 800 Independence Avenue SW., Washington, DC 20591, (202) 267-8744.

SUPPLEMENTARY INFORMATION:

General Description of the Program

The MAP provides capital development assistance to civil airport sponsors of designated current joint-use military airfields or former military airports that are included in the FAA's National Plan of Integrated Airport Systems (NPIAS). Airports designated to the MAP may be able to receive grant funds from a set-aside (currently four percent of Airport Improvement Program (AIP) discretionary funds) for airport development, including certain projects not otherwise eligible for AIP assistance. These airports are also eligible to receive grants from other categories of AIP funding.

The Secretary considers for designation only current joint-use or former military airports that meet the criteria set forth under “Designation Considerations,” below.

Number of Airports

A maximum of 15 airports per fiscal year may participate in the MAP, of which three may be General Aviation (GA) airports. There are twelve slots available in FY 2017. Of the twelve slots available, there are two GA slots available in FY 2017.

Term of Designation

The maximum term is five fiscal years following designation. The FAA can designate airports for a period of less than five years. The FAA will evaluate the conversion needs of the airport in its capital development plan to determine the appropriate length of designation.

Redesignation

Previously designated airports may apply for redesignation to an additional term or terms that may not exceed five years per each. Those airports must meet current eligibility requirements outlined in 49 U.S.C. 47118(a) at the beginning of each grant period. The FAA will evaluate applications for redesignation primarily in terms of justified projects specifically fundable only under the MAP as redesignees generally tend to have fewer conversion needs than new candidates. The FAA's goal is to graduate MAP airports to regular AIP participation by successfully converting these airports to civilian airport operations.

Eligible Projects

In addition to eligible AIP projects, the MAP can fund fuel farms, utility systems, surface automobile parking lots, hangars, and air cargo terminals up to 50,000 square feet. A designated or redesignated military airport can receive not more than $7,000,000 in each fiscal year to construct, improve, or repair terminal building facilities. In addition, a designated or redesignated military airport can receive not more than $7,000,000 each fiscal year for MAP eligible projects including hangars, cargo facilities, fuel farms, automobile surface parking, or utility work.

Designation Considerations

The MAP allows the Secretary of Transportation to designate current joint-use or former military airports (other than an airport so designated before August 24, 1994) to receive grants from the AIP if they meet the following general requirements:

(1) The airport is a former military installation closed or realigned under:

(a) Section 2687 of title 10 (announcement of closures of large Department of Defense installations after September 30, 1977);

(b) Section 201 of the Defense Authorization Amendments and Base Closure and Realignment Act (BRAC) (10 U.S.C. 2687 note); or

(c) Section 2905 of the Defense Base Closure and Realignment Act of 1990 (10 U.S.C. 2687 note); or

(2) The airport is a military installation with both military and civil aircraft operations; and

(3) The airport is classified as a commercial service or reliever airport in the NPIAS. (See 49 U.S.C. 47105(b)(2)). In addition, three of the designated airports, if included in the NPIAS, may be GA airports that were former military installations closed or realigned under BRAC, as amended, or 10 U.S.C. 2687. (See 49 U.S.C. 47118(g)). Therefore, a GA airport can only qualify under (1) above. “General aviation airport” means a public airport that is located in a State that, as determined by the Secretary: (A) does not have scheduled service; or (B) has scheduled service with fewer than 2,500 passenger boardings per year.

In designating new candidate airports, the Secretary shall consider if a grant will:

(1) Reduce delays at an airport with more than 20,000 hours of annual delays in commercial passenger aircraft takeoffs and landings; or

(2) Enhance airport and air traffic control system capacity in a metropolitan area or reduce current and projected flight delays.

The application for new designations will be evaluated in terms of how the proposed projects will contribute to reducing delays and/or how the airport will enhance air traffic or airport system capacity and provide adequate user services.

Project Evaluation

Recently realigned or closed military airports, as well as active military airfields with new joint-use agreements, generally have the greatest need of funding assistance for conversion to or incorporation of civil airport operations. Newly converted airports and new joint-use locations frequently have minimal capital development resources and will therefore receive priority consideration for designation and MAP funding. The FAA will evaluate the need for eligible projects based upon information in the candidate airport's five-year Capital Improvement Plan (CIP).

(1) The FAA will evaluate candidate airports and any reliever role that they may perform for nearby airports based on the following specific factors:

• Compatibility of airport roles and the ability of the airport to provide an adequate airport facility;

• The capability of the candidate airport and its airside and landside complex to serve aircraft that otherwise must use a congested airport;

• Landside surface access;

• Airport operational capability, including peak hour and annual capacities of the candidate airport;

• Potential of other metropolitan area airports to relieve the congested airport;

• Ability to satisfy, relieve, or meet air cargo demand within the metropolitan area;

• Forecasted aircraft and passenger levels, type of commercial service anticipated, i.e. scheduled or chartered commercial service;

• Type and capacity of aircraft projected to serve the airport and level of operations at the congested airport and the candidate airport;

• The potential for the candidate airport to be served by aircraft or users, including the airlines, serving the congested airport;

• Ability to replace an existing commercial service or reliever airport serving the area; and

• Any other documentation to support the FAA designation of the candidate airport.

(2) The FAA will evaluate the extent to which development needs funded through the MAP will make the airport a viable civilian airport that will enhance system capacity or reduce delays.

Application Procedures and Required Documentation

Airport sponsors applying for designation or redesignation must complete and submit an SF-424, Application for Federal Assistance, and provide supporting documentation to the appropriate FAA Airports regional or district office serving that airport. Sponsors may obtain this fillable form at http://www.faa.gov/airports/aip/.

Applicants must fill out this form completely, including the following:

• Mark Item 1, Type of Submission as a “pre-application” and indicate it is for “construction”.

• Mark item 8, Type of Application as “new”, and in “other”, fill in “Military Airport Program”.

• Fill in Item 11, Descriptive Title of Applicant's Project. “Designation (or redesignation) to the Military Airport Program”.

• Under Item 15a, Estimated Funding, indicate the total amount of funding requested from the MAP during the entire term for which you are applying.

Supporting Documentation

A. Identification as a Current or Former Military Airport. The application must identify the airport as either a current or former military airport and indicate whether it was:

(1) Closed or realigned under Section 201 of the Defense Authorization Amendments and Base Closure and Realignment Act, and/or Section 2905 of the Defense Base Closure and Realignment Act of 1990 (Installations Approved for Closure by the Defense Base Realignment and Closure Commissions), or

(2) Closed or realigned pursuant to 10 U.S.C. § 2687 as excess property (bases announced for closure by Department of Defense (DOD) pursuant to this title after September 30, 1977 (this is the date of announcement for closure)), or

(3) A military installation with both military and civil aircraft operations. A general aviation airport applying for the MAP may be joint-use but must also qualify under (1) or (2) above.

B. Qualifications for MAP. Submit documents for (1) through (8) below:

(1) Documentation that the airport meets the definition of a “public airport” as defined in 49 U.S.C. § 47102(20).

(2) Documentation indicating the required environmental review for civil reuse or joint-use of the military airfield has been completed. This environmental review need not include review of the individual projects to be funded by the MAP. Rather, the documentation must reflect that the environmental review necessary to convey the property, enter into a long-term lease, or finalize a joint-use agreement has been completed. The military department conveying or leasing the property, or entering into a joint-use agreement, has the lead responsibility for this environmental review. To meet AIP requirements, the environmental reviews and approvals must indicate that the operator or owner of the airport has good title that is satisfactory to the Secretary or assures, to the FAA's satisfaction, that good title will be acquired.

(3) For a former military airport, documentation that the eligible airport sponsor holds or will hold satisfactory title, a long-term lease in furtherance of conveyance of property for airport purposes, or a long-term interim lease for 25 years or longer to the property on which the civil airport is being located. Documentation that an application for surplus or BRAC airport property has been accepted by the Federal Government is sufficient to indicate the eligible airport sponsor holds or will hold satisfactory title or a long-term lease.

(4) For a current military airport, documentation that the airport sponsor has an existing joint-use agreement with the military department having jurisdiction over the airport. For all first time applicants, a copy of the existing joint-use agreement must be submitted with the application. This is necessary so the FAA can legally issue grants to the sponsor. Here and in (3) directly above, the airport must possess the necessary property rights in order to accept a grant for its proposed projects during FY 2016.

(5) Documentation that the airport is classified as a “commercial service airport” or a “reliever airport” as defined in 49 U.S.C. 47102(7) and 47102(23).

(6) Documentation that the airport owner is an eligible airport “sponsor,” as defined in 49 U.S.C. 47102(26).

(7) Documentation that the airport has a five-year CIP indicating all eligible grant projects requested to be funded either from the MAP or other portions of the AIP and an FAA approved Airport Layout Plan (ALP).

(8) For commercial service airports, a business/marketing plan or equivalent must be submitted with the application. For relievers or general aviation airports, other planning documents may be submitted.

C. Evaluation Factors. Submit information on the items below to assist in the FAA's evaluation:

(1) Information identifying the existing and potential levels of visual or instrument operations and aeronautical activity at the current or former military airport and, if applicable, the congested airport. Also, if applicable, information on how the airport contributes to the air traffic system or airport system capacity. If served by commercial air carriers, the revenue passenger and cargo levels must be provided.

(2) A description of the airport's projected civil role and development needs for transitioning from use as a military airfield to a civil airport. Include how development projects would serve to reduce delays at an airport with more than 20,000 hours of annual delays in commercial passenger aircraft takeoffs and landings; or enhance capacity in a metropolitan area or reduce current and projected flight delays.

(3) A description of the existing airspace capacity. Describe how anticipated new operations would affect the surrounding airspace and air traffic flow patterns in the metropolitan area in or near the airport. Include a discussion of whether operations at this airport create airspace conflicts that may cause congestion or whether air traffic works into the flow of other air traffic in the area.

(4) A description of the airport's five-year CIP, including a discussion of major projects, their priorities, projected schedule for project accomplishment, and estimated costs. The CIP must specifically identify the safety, capacity, and conversion related projects, associated costs, and projected five-year schedule of project construction, including those requested for consideration for MAP funding.

(5) A description of those projects that are consistent with the role of the airport and effectively contribute to the joint-use or conversion of the airfield to a civil airport. The projects can be related to various improvement categories depending on what is needed to convert from military to civil airport use, to meet required civil airport standards, and/or to provide capacity to the airport and/or airport system. The projects selected (e.g., safety-related, conversion-related, and/or capacity-related) must be identified and fully explained based on the airport's planned use. Those projects that may be eligible under MAP, if needed for conversion or capacity-related purposes, must be clearly indicated and include the following information:

Airside

• Modification of airport or military airfield for safety purposes, including airport pavement modifications, marking, lighting, strengthening, drainage or modifying other structures or features in the airport environs to meet civil standards for approach, departure and other protected airport surfaces as described in 14 CFR part 77 or standards set forth in FAA Advisory Circular 150/5300-13.

• Construction of facilities or support facilities, such as passenger terminal gates, aprons for passenger terminals, taxiways to new terminal facilities, aircraft parking, and cargo facilities to accommodate civil use.

• Modification of airport or military utilities (electrical distribution systems, communications lines, water, sewer, storm drainage) to meet civil standards. Also, modifications that allow utilities on the civil airport to operate independently, where other portions of the base are conveyed to entities other than the airport sponsor or retained by the Government.

• Purchase, rehabilitation, or modification of airport and airport support facilities and equipment, including snow removal, aircraft rescue, firefighting buildings and equipment, airport security, lighting vaults, and reconfiguration or relocation of eligible buildings for more efficient civil airport operations.

• Modification of airport or military airfield fuel systems and fuel farms to accommodate civil aviation use.

• Acquisition of additional land for runway protection zones, other approach protection, or airport development.

• Cargo facility requirements.

• Modifications which will permit the airfield to accommodate general aviation users.

Landside

• Construction of surface parking areas and access roads to accommodate automobiles in the airport terminal and air cargo areas and provide an adequate level of access to the airport.

• Construction or relocation of access roads to provide efficient and convenient movement of vehicular traffic to, on, and from the airport, including access to passenger, air cargo, fixed base operations, and aircraft maintenance areas.

• Modification or construction of facilities such as passenger terminals, surface automobile parking lots, hangars, air cargo terminal buildings, and access roads to cargo facilities to accommodate civil use.

(6) An evaluation of the ability of surface transportation facilities (e.g., road, rail, high-speed rail, and/or maritime) to provide intermodal connections.

(7) A description of the type and level of aviation and community interest in the civil use of a current or former military airport.

(8) One copy of the FAA-approved ALP for each copy of the application. The ALP or supporting information must clearly show capacity and conversion related projects. Other information such as project costs, schedule, project justification, other maps and drawings showing the project locations, and any other supporting documentation that would make the application easier to understand should also be included. You may also provide photos, which would further describe the airport, projects, and otherwise clarify certain aspects of this application. These maps and ALPs should be cross-referenced with the project costs and project descriptions.

Redesignation of Airports Previously Designated and Applying for up to an Additional Five Years in the Program

Airports applying for redesignation to the MAP must submit the same information required by new candidate airports applying for a new designation. On the SF 424, Application for Federal Assistance, prescribed by the Office of Management and Budget Circular A-102, airports must indicate their application is for redesignation to the MAP. In addition to the information required for new candidates, airports requesting redesignation must also explain:

(1) Why a redesignation and additional MAP eligible project funding is needed to accomplish the conversion to meet the civilian role of the airport and the preferred time period for redesignation (not to exceed five years);

(2) Why funding of eligible work under other categories of AIP or other sources of funding would not accomplish the development needs of the airport; and

(3) Why, based on the previously funded MAP projects, the projects and/or funding levels were insufficient to accomplish the airport conversion needs and development goals.

In addition to the information requested above, airports applying for redesignation must provide a reanalysis of their original business/marketing plans (for example, a plan previously funded by the Office of Economic Adjustment or the original Master Plan for the airport) and prepare a report. If there is not an existing business/marketing plan a business/marketing plan or strategy must be developed. The report must contain:

(1) Whether the original business/marketing plan is still appropriate;

(2) Is the airport continuing to work towards the goals established in the business/marketing plan;

(3) Discuss how the MAP projects contained in the application contribute to the goals of the sponsor and their plans; and

(4) If the business/marketing plan no longer applies to the current goals of the airport, how has the airport altered the business/marketing plan to establish a new direction for the facility and how do the projects contained in the MAP application aid in the completion of the new direction and goals and by what date does the sponsor anticipate graduating from the MAP.

This notice is issued pursuant to Title 49 U.S.C. 47118.

Issued at Washington, DC, on November 14, 2016.
Elliott Black,
Director, Office of Airport Planning and Programming.

[FR Doc. 2016-29318 Filed 12-6-16; 8:45 am]

BILLING CODE 4910-13-P